DEPARTMENT OF TRANSPORTATION

Federal Aviation Administration

14 CFR Part 39

[Docket No. FAA-2011-0379; Directorate Identifier 2011-CE-007-AD; Amendment 39-16670; AD 2011-09-08]

RIN 2120-AA64

Airworthiness Directives; Pacific Aerospace Limited Model 750XL Airplanes

AGENCY: Federal Aviation Administration (FAA), DOT.

ACTION: Final rule; request for comments.

SUMMARY: We are adopting a new airworthiness directive (AD) for the products listed above. This AD results from mandatory continuing airworthiness information (MCAI) issued by the aviation authority of another country to identify and correct an unsafe condition on an aviation product. The MCAI describes the unsafe condition as:

This AD is prompted by a report from the manufacturer of finding cracks in rudder pedal assemblies at the quadrant attachment weld on early 750 XL aircraft.

This AD requires actions that are intended to address the unsafe condition described in the MCAI.

DATES: This AD becomes effective May 2, 2011.

On May 2, 2011, the Director of the Federal Register approved the incorporation by reference of certain publications listed in this AD.

We must receive comments on this AD by June 6, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Pacific Aerospace Limited, Hamilton Airport, Private Bag 3027 Hamilton 3240, New Zealand; telephone: +64 7 843 6144; fax: +64 7 843 6134; e-mail: pacific@aerospace.co.nz; Internet: http://www.aerospace.co.nz/. You may review copies of the referenced service information at the FAA, Small Airplane Directorate, 901 Locust, Kansas City, Missouri 64106. For information on the availability of this material at the FAA, call 816-329-4148.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone (800) 647-5527) is in the ADDRESSES section. Comments will be available in the AD docket shortly after receipt.

FOR FURTHER INFORMATION CONTACT: Karl Schletzbaum, Aerospace Engineer, FAA, Small Airplane Directorate, 901 Locust, Room 301, Kansas City, Missouri 64106; telephone: (816) 329-4146; fax: (816) 329-4090.

SUPPLEMENTARY INFORMATION:

Discussion

The Civil Aviation Authority (CAA), which is the airworthiness authority for New Zealand, has issued AD DCA/750XL/14, dated March 31, 2011, (referred to after this as “the MCAI”), to correct an unsafe condition for the specified products. The MCAI states:

This AD is prompted by a report from the manufacturer of finding cracks in rudder pedal assemblies at the quadrant attachment weld on early 750 XL aircraft.

The MCAI requires inspecting the left-hand and right-hand rudder pedal assemblies for cracks and incorporating a modification repair scheme if any cracks are found. You may obtain further information by examining the MCAI in the AD docket.

Relevant Service Information

Pacific Aerospace Limited has issued Mandatory Service Bulletin PACSB/XL/050, Issue 1, dated December 15, 2010. The actions described in this service information are intended to correct the unsafe condition identified in the MCAI.

FAA's Determination and Requirements of the AD

This product has been approved by the aviation authority of another country, and is approved for operation in the United States. Pursuant to our bilateral agreement with this State of Design Authority, they have notified us of the unsafe condition described in the MCAI and service information referenced above. We are issuing this AD because we evaluated all information provided by the State of Design Authority and determined the unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might have also required different actions in this AD from those in the MCAI in order to follow FAA policies. Any such differences are described in a separate paragraph of the AD. These requirements take precedence over those copied from the MCAI.

FAA's Determination of the Effective Date

An unsafe condition exists that requires the immediate adoption of this AD. The FAA has found that the risk to the flying public justifies waiving notice and comment prior to adoption of this rule because cracks in the rudder pedal assemblies could cause the rudder pedal assembly to fail, which could result in loss of control. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2011-0379; Directorate Identifier 2011-CE-007-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD will affect 15 products of U.S. registry. We also estimate that it would take about 4 work-hours per product to comply with the basic requirements of this AD. The average labor rate is $85 per work-hour. Required parts would cost about $1,269 per product.

Based on these figures, we estimate the cost of the AD on U.S. operators to be $24,135 or $1,609 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-09-08 Pacific Aerospace Limited: Amendment 39-16670; Docket No. FAA-2011-0379; Directorate Identifier 2011-CE-007-AD.

Effective Date

(a) This airworthiness directive (AD) becomes effective May 2, 2011.

Affected ADs

(b) None.

Applicability

(c) This AD applies to Pacific Aerospace Limited Model 750XL airplanes, all serial numbers through 111, certificated in any category.

Subject

(d) Air Transport Association of America (ATA) Code 27: Flight Controls.

Reason

(e) The mandatory continuing airworthiness information (MCAI) states:

This AD is prompted by a report from the manufacturer of finding cracks in rudder pedal assemblies at the quadrant attachment weld on early 750 XL aircraft.

The MCAI requires inspecting the left-hand (LH) and right-hand (RH) rudder pedal assemblies for cracks and incorporating a modification repair scheme if any cracks are found. You may obtain further information by examining the MCAI in the AD docket.

Actions and Compliance

(f) Unless already done, do the following actions:

(1) Inspect the quadrant welds in the LH rudder pedal assembly, part number (P/N) 11-45711-1, and the RH rudder pedal assembly, P/N 11-45713-1, for cracks at the following times following Pacific Aerospace Limited Mandatory Service Bulletin PACSB/XL/050, Issue 1, dated December 15, 2010:

(i) Initially before further flight after the effective date of this AD.

(ii) Repetitively thereafter at intervals not to exceed 300 hours time-in-service (TIS) until the modification repair scheme required in paragraph (f)(2) of this AD is incorporated.

(2) Incorporate modification repair scheme Pacific Aerospace Drawing Number 11-03221/22, dated December 3, 2010, as specified in Pacific Aerospace Limited Mandatory Service Bulletin PACSB/XL/050, Issue 1, dated December 15, 2010, at the following time:

(i) Before further flight after any inspection required in paragraphs (f)(1)(i) or (f)(1)(ii) of this AD if any cracks are found.

(ii) Within the next 1,200 hours TIS after the effective date of this AD or within the next 12 months after the effective date of this AD, whichever occurs first, if no cracks are found during any inspection required in paragraphs (f)(1)(i) or (f)(1)(ii) of this AD. Incorporating modification repair scheme Pacific Aerospace Drawing Number 11-03221/22, dated December 3, 2010, terminates the repetitive inspections required in paragraph (f)(1)(ii) of this AD.

(3) You may incorporate modification repair scheme Pacific Aerospace Drawing Number 11-03221/22, dated December 3, 2010, at any time after the initial inspection required in paragraph (f)(1)(i) of this AD but no later than the compliance time specified in paragraph (f)(2)(ii) of this AD as long as no cracks were found. As required in paragraph (f)(2)(i) of this AD, the modification repair scheme must be incorporated before further flight if cracks are found.

FAA AD Differences

Note: This AD differs from the MCAI and/or service information as follows: The MCAI Civil Aviation Authority (CAA) AD DCA/750XL/14, dated March 31, 2011, and the applicable service bulletin specifies repair of the rudder pedal assembly if cracks are found exceeding certain limits and allows continued flight for a specified time if cracks are found in the rudder pedal assembly that do not exceed certain limits. This AD does not allow continued flight if any crack is found. The FAA policy is to disallow airplane operation when known cracks exist in primary structure, unless the ability to sustain ultimate load with these cracks is proven. The rudder pedal assembly is considered primary structure, and the FAA has not received any analysis to prove that ultimate load can be sustained with cracks in this area.

Other FAA AD Provisions

(g) The following provisions also apply to this AD:

(1) Alternative Methods of Compliance (AMOCs): The Manager, Standards Office, FAA, has the authority to approve AMOCs for this AD, if requested using the procedures found in 14 CFR 39.19. Send information to Attn: Karl Schletzbaum, Aerospace Engineer, FAA, Small Airplane Directorate, 901 Locust, Room 301, Kansas City, Missouri 64106; telephone: (816) 329-4146; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave., SW., Washington, DC 20591, Attn: Information Collection Clearance Officer, AES-200.

Related Information

(h) Refer to MCAI Civil Aviation Authority (CAA) AD DCA/750XL/14, dated March 31, 2011, and Pacific Aerospace Limited Mandatory Service Bulletin PACSB/XL/050, Issue 1, dated December 15, 2010, for related information.

Material Incorporated by Reference

(i) You must use Pacific Aerospace Limited Mandatory Service Bulletin PACSB/XL/050, Issue 1, dated December 15, 2010, and Pacific Aerospace Drawing Number 11-03221/22, dated December 3, 2010, to do the actions required by this AD, unless the AD specifies otherwise.

(1) The Director of the Federal Register approved the incorporation by reference of this service information under 5 U.S.C. 552(a) and 1 CFR part 51.

(2) For service information identified in this AD, contact Pacific Aerospace Limited, Hamilton Airport, Private Bag HN3027 Hamilton, New Zealand; telephone: 0064 7 843 6144; fax: 0064 7 843 6134; Internet: http://www.aerospace.co.nz/.

(3) You may review copies of the referenced service information at the FAA, Small Airplane Directorate, 901 Locust, Kansas City, Missouri 64106. For information on the availability of this material at the FAA, call 816-329-4148.

(4) You may also review copies of the service information incorporated by reference for this AD at the National Archives and Records Administration (NARA). For information on the availability of this material at NARA, call (202) 741-6030, or go to: http://www.archives.gov/federal_register/code_of_federal_regulations/ibr_locations.html.

Issued in Kansas City, Missouri on April 13, 2011.
Earl Lawrence,
Manager, Small Airplane Directorate, Aircraft Certification Service.

[FR Doc. 2011-9429 Filed 4-20-11; 8:45 am]

BILLING CODE 4910-13-P